DEPARTMENT OF COMMERCE

Census Bureau

Agency Information Collection Activities; Submission to the Office of Management and Budget (OMB) for Review and Approval; Comment Request; Survey of State Government Research and Development

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 31, 2022 during a 60-day comment period. This notice allows for an additional 30 days for public comments.

Agency: U.S. Census Bureau, Department of Commerce.

Title: Survey of State Government Research and Development.

OMB Control Number: 0607-0933.

Form Number(s): SRD-1.

Type of Request: Regular submission, request for an extension, without change, of a currently approved collection.

Number of Respondents: 51 governors, 1 mayor, 52 state coordinators, and approximately 700 State government agencies.

Average Hours per Response: 5 minutes for each governor or mayor, 1 hour for each state coordinator, and 2 hours for each State agency surveyed.

Burden Hours: 1,456.

Needs and Uses: The Census Bureau conducts the Survey of State Government Research and Development (SGRD) to measure research and development performed and funded by State government agencies in the United States. The Census Bureau conducts the survey on behalf of the National Center for Science and Engineering Statistics (NCSES) within the National Science Foundation.

The National Science Foundation Act of 1950, as amended, includes a statutory charge to “provide a central clearinghouse for the collection, interpretation, and analysis of data on scientific and engineering resources and to provide a source of information for policy formulation by other agencies in the Federal Government.” This mandate was further codified in the America COMPETES Reauthorization Act of 2010 section 505, which requires NCSES to “collect, acquire, analyze, report, and disseminate . . . statistical data on (A) research and development trends . . .” Under the aegis of these legislative mandates, NCSES has sponsored surveys of research and development (R&D) since 1951, including the SGRD since 2006. The Census Bureau's authorization to undertake this work is found at 13 U.S.C. 8(b) which provides that the Census Bureau “may make special statistical compilations and surveys for departments, agencies, and establishments of the Federal government, the government of the District of Columbia, the government of any possession or area (including political subdivisions thereof) . . . State or local agencies, or other public and private persons and agencies.”

The SGRD is the only comprehensive source of State government research and development expenditure data collected on a nationwide scale using uniform definitions, concepts, and procedures. The collection covers the expenditures of all agencies in the fifty State governments, the District of Columbia, and Puerto Rico that perform or fund R&D. The NCSES coordinates with the Census Bureau for the data collection. The NCSES uses this collection to satisfy, in part, its need to collect research and development expenditures data.

Fiscal data provided by respondents aid data users in measuring the effectiveness of resource allocation. The products of this data collection make it possible for data users to obtain information on such things as expenditures according to source of funding (e.g., Federal funds or State funds), by performer of the work (e.g., intramural and extramural to State agencies), by function (e.g., agriculture, energy, health, transportation, etc.), by type of work (e.g., basic research, applied research, or experimental development) for intramural performance of R&D, and by R&D plant (e.g., construction projects). Final results produced by NCSES contain state and national estimates useful to a variety of data users interested in research and development performance including: The National Science Board; the Office of Management and Budget; the Office of Science and Technology Policy and other science policy makers; institutional researchers; and private organizations.

We have analyzed responses to a question about burden which appears on the instrument. That analysis indicates that the average burden for agency respondents should be 2 hours rather than the current estimate of 3 hours. We are adjusting the burden of the collection downward accordingly.

The survey announcements and forms used in the SGRD are:

Survey Announcement. An introductory email from the Directors of the NCSES and the Census Bureau is sent to Chief of Staff of Governor's Office to announce the survey collection and to solicit assignment of a State Coordinator. The State Coordinator's Announcement is sent electronically at the beginning of each survey period to solicit assistance in identifying State agencies which may perform or fund R&D activities.

Form SRD-1. This form contains item descriptions and definitions of the research and development items collected by the Census Bureau on behalf of the NCSES. All states supply their data by electronic means.

The Census Bureau emails Chief of Staff for the 50 state governors, the mayor of DC, and the governor of Puerto Rico requesting that they appoint a state coordinator for the survey. The Census Bureau then emails the state coordinators a spreadsheet asking them to identify State agencies that may have the capacity to perform or fund R&D. The Census Bureau subsequently emails the survey form to each State agency identified by the respective state coordinators. The form contains embedded data checks and auto-summing functionality. Agencies are asked to complete and email back the form. Alternatively, agencies can report to the Census Bureau by telephone.

Frequency: Annually.

Respondent's Obligation: Voluntary.

Legal Authority: National Science Foundation Act of 1950 as amended and the America COMPETES Reauthorization Act of 2010, title 42 U.S.C. 1861-76; title 13, U.S.C. 8(b).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0933.

Sheleen Dumas,
Department PRA Clearance Officer, Office of the Under Secretary for Economic Affairs, Commerce Department.

[FR Doc. 2023-07241 Filed 4-5-23; 8:45 am]

BILLING CODE 3510-07-P